DEPARTMENT OF LABOR

Bureau of Labor Statistics

Submission for OMB Review: Comment Request

October 13, 2010.

The Department of Labor (DOL) hereby announces the submission of the following public information collection request (ICR) to the Office of Management and Budget (OMB) for review and approval in accordance with the Paperwork Reduction Act of 1995 (Pub. L. 104-13, 44 U.S.C. chapter 35). A copy of this ICR, with applicable supporting documentation including, among other things, a description of the likely respondents, proposed frequency of response, and estimated total burden may be obtained from the RegInfo.gov Web site at http://www.reginfo.gov/public/do/PRAMain or by contacting Michel Smyth on 202-693-4129 (this is not a toll-free number)/e-mail: DOL_PRA_PUBLIC@dol.gov.

Interested parties are encouraged to send written comments to the Office of Information and Regulatory Affairs, Attn: OMB Desk Officer for the Department of Labor—Bureau of Labor Statistics (BLS), Office of Management and Budget, Room 10235, Washington, DC 20503, Telephone: 202-395-7314/Fax: 202-395-5806 (these are not toll-free numbers), E-mail: OIRA_submission@omb.eop.gov within 30 days from the date of this publication in the Federal Register. In order to ensure the appropriate consideration, comments should reference the OMB Control Number (see below).

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Agency: Bureau of Labor Statistics.

Type of Review: New Collection.

Title of Collection: Forms Design and Pilot Testing for the BLS Green Practices and Processes Project.

OMB Control Number: 1220-0NEW.

Frequency: Once.

Affected Public: Business or other for-profit, Not-for-profit institutions.

Total Estimated Number of Respondents: 2,200.

Total Number of Responses: 2,450.

Total Estimated Annual Burden Hours: 858.

Total Estimated Annual Costs Burden (Operation and Maintenance): $0.

Description: The 2010 Congressional Appropriation tasks the Bureau of Labor Statistics (BLS) with producing occupational employment and wage data on green jobs. This initiative will produce information on: (1) The number of and trend over time in green jobs, (2) the industrial, occupational, and geographic distribution of green jobs, and (3) the wages of the workers in these jobs. BLS presented its approach to measuring green jobs and the proposed definition of green jobs in a March 16, 2010, Federal Register Notice (75 FR 12571). The measurement approach includes two types of surveys: One on jobs related to producing green goods and services, and one on jobs related to using environmentally friendly production processes and practices. This request for OMB approval concerns testing research for the second type of survey, on jobs related to environmentally friendly production processes and practices. The research described in this information collection request focuses on defining environmentally friendly production technologies and practices and the ability of firms to provide occupation and wage information on jobs associated with those defined technologies and practices.

Linda Watts Thomas,
Acting Departmental Clearance Officer.

[FR Doc. 2010-26281 Filed 10-19-10; 8:45 am]

BILLING CODE 4510-24-P